DEPARTMENT OF TRANSPORTATION

Federal Aviation Administration

June 27, 2018 Meeting of the NextGen Advisory Committee (NAC)

AGENCY: Federal Aviation Administration (FAA), Department of Transportation (DOT).

ACTION: Notice.

SUMMARY: The FAA is issuing this notice to advise the public of the June 27, 2018 Meeting of the NextGen Advisory Committee.

DATES: The meeting will be held Wednesday, June 27, 2018, 8:30 a.m. EST to 12:00 p.m. EST.

ADDRESSES: The meeting will be held at U.S. DOT (Conference Center), 1200 New Jersey Avenue SE, Washington, DC 20590.

FOR FURTHER INFORMATION CONTACT: Greg Schwab, FAA, 950 L'Enfant Plaza SW, Washington, DC 20024, 202-267-1201, gregory.schwab@faa.gov, https://www.faa.gov.

SUPPLEMENTARY INFORMATION: Pursuant to section 10(a)(2) of the Federal Advisory Committee Act (Pub. L. 92-463, 5 U.S.C., App.), notice is hereby given for a June 27, 2018 Meeting of the NextGen Advisory Committee (NAC). The NAC Charter Federal Register Notice announcing the intent to establish the Committee was published on May 31, 2018 (document number 2018-11696). Under 41 Code of Federal Regulations (CFR) 102-3.150, the agenda is planned as follows:

Wednesday, June 27, 2018, 8:30 a.m.-12:00 p.m.

1. Opening of Meeting/Introduction of NAC Members

2. Official Statement of Designated Federal Official

3. Chairman's Report

4. FAA Report

—FAA Response to NAC Recommendations on Enhanced Surveillance

5. NAC Subcommittee Chairman's Report and NextGen Priorities 3-Year Work Plan [For Approval]

—NextGen Priorities Report

6. Northeast Corridor Phase 2 Recommendations [For Approval]

7. Northeast Corridor Public Engagement—Guided Discussion 1

—FAA Lessons Learned and Engagement Plans Going Forward in the Northeast Corridor

8. Break

9. Northeast Corridor Equipage Risk to Northeast Corridor Benefits—Guided Discussion 2

—Navigation Equipage and Factors Influencing Increased Regional Equipage in the Northeast Corridor

10. Next Steps

11. Summary of Meeting and Action Item Review

12. NAC Chairman Closing Comments & Adjourn

To Attend the NAC Meeting: In order to attend the NAC meeting at DOT on June 27:

—Pre-registration is required. To pre-register, you must provide your full name, company/organization you are representing, title/position, and contact information (telephone number and email address) no later than Wednesday, June 20 to NACRegistration@Concept-Solutions.com.

○ For Foreign National attendees, please also provide your country of citizenship, date of birth, and passport or diplomatic ID# with expiration date.

—Upon arrival at the DOT Conference Center, all attendees must show photo identification that match the pre-registration name, specifically, government-issued photo identification (e.g., U.S. driver's license; passport for non-U.S. citizens; federal government identification card). Refer to the information on items prohibited from Federal facilities, published by the Department of Homeland Security: https://www.dhs.gov/sites/default/files/publications/isc-items-prohibited-federal-facilities-feb-2013-508.pdf.

With the approval of the NAC Chairman, members of the public may present oral statements at the meeting. Persons wishing to present statements or obtain information should contact the person listed in the FOR FURTHER INFORMATION CONTACT section. Members of the public may present a written statement to the committee at any time.

Issued in Washington, DC, on June 8, 2018.
John Wesley Raper,
Manager, Partnership Branch, ANG-A17, NextGen, Management Services, Federal Aviation Administration.

[FR Doc. 2018-12681 Filed 6-12-18; 8:45 am]

BILLING CODE 4910-13-P